DEPARTMENT OF LABOR

Employment and Training Administration

[TA-W-39,379, and TA-W-39,379A]

Savannah Luggage Works, Vidalia, GA, Savannah Luggage Works, Swainsboro, GA; Amended Certification Regarding Eligibility To Apply for Worker Adjustment Assistance

In accordance with Section 223 of the Trade Act of 1974 (19 U.S.C. 2273) the Department of Labor issued a Notice of Certification Regarding Eligibility to Apply for Worker Adjustment Assistance on August 23, 2001, applicable to workers of Savannah Luggage Works, Vidalia, Georgia. The notice was published in the Federal Register on September 11, 2001 (66 FR 47242).

At the request of the company, the Department reviewed the certification for workers of the subject firm. Information shows that worker separations occurred at the Swainsboro, Georgia location of the subject firm. Workers at the Swainsboro, Georgia location are engaged in the production of luggage.

Based on these findings, the Department is amending the certification to include workers of the Swainsboro, Georgia location of Savannah Luggage Works.

The intent of the Department's certification is to include all workers of Savannah Luggage Works who were adversely affected by increased imports of luggage.

The amended notice applicable to TA-W-39,379 is hereby issued as follows:

All workers of Savannah Luggage Works, Vidalia, Georgia (TA-W-39,379) and Swainsboro, Georgia (TA-W-39,379A), who became totally or partially separated from employment on or after May 14, 2000, through August 23, 2003, are eligible to apply for adjustment assistance under Section 223 of the Trade Act of 1974.

Signed at Washington, DC, this 28th day of September, 2001.
Linda G. Poole,
Certifying Officer, Division of Trade Adjustment Assistance.

[FR Doc. 01-26348 Filed 10-18-01; 8:45 am]

BILLING CODE 4510-30-M